OFFICE OF PERSONNEL MANAGEMENT

Excepted Service

AGENCY: U.S. Office of Personnel Management (OPM).

ACTION: Notice.

SUMMARY: This notice identifies Schedule A, B, and C appointing authorities applicable to a single agency that were established or revoked from May 1, 2016 to May 31, 2016.

FOR FURTHER INFORMATION CONTACT: Senior Executive Resources Services, Senior Executive Service and Performance Management, Employee Services, (202) 606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No schedule A authorities to report during May 2016.

Schedule B

No schedule B authorities to report during May 2016.

Schedule C

The following Schedule C appointing authorities were approved during May 2016.

Agency name | Organization name | Position title | Authorization No. | Effective date
Department of Agriculture | Office of the Secretary | Special Assistant (2) | DA160122 DA160123 | 5/12/2016 5/12/2016
| Office of Small and Disadvantaged Business Utilization | Director | DA160125 | 5/13/2016
| Office of the Under Secretary Farm and Foreign Agricultural Service | Deputy Chief of Staff | DA160126 | 5/13/2016
| Foreign Agricultural Service | Deputy Chief of Staff | DA160132 | 5/24/2016
| Office of Under Secretary for Natural Resources and Environment | Chief of Staff | DA160133 | 5/24/2016
Department of Commerce | Office of Public Affairs | Speechwriter and Press Assistant | DC160141 | 5/6/2016
| Bureau of Industry and Security | Special Advisor | DC160150 | 5/10/2016
| Office of the Assistant Secretary for Economic Development | Director of External Affairs | DC160151 | 5/10/2016
Department of Defense | Office of the Assistant Secretary of Defense (Asian and Pacific Security Affairs) | Special Assistant for East Asia | DD160137 | 5/10/2016
| Office of the Assistant Secretary of Defense (International Security Affairs) | Special Assistant for the Middle East | DD160145 | 5/18/2016
| Office of the Secretary | Special Assistant Director, Travel Operations | DD160147 DD160146 | 5/20/2016 5/23/2016
| Office of the Assistant Secretary of Defense (Special Operations/Low Intensity Conflict and Interdependent Capabilities) | Chief of Staff for Stability and Humanitarian Affairs | DD160148 | 5/25/2016
Department of the Air Force | Office of Assistant Secretary Air Force for Acquisition | Director of Private Sector Engagement | DF160035 | 5/10/2016
Department of Education | Office of Postsecondary Education | Special Assistant | DB160084 | 5/5/2016
| Office of the Secretary | Change Management Director | DB160086 | 5/12/2016
|  | Leadership Development Director | DB160087 | 5/12/2016
|  | Deputy Director of Scheduling and Advance | DB160089 | 5/13/2016
| Office of the Under Secretary | Chief of Staff, White House Initiative on Educational Excellence for Hispanics | DB160091 | 5/18/2016
|  | Deputy Director, White House Initiative on Asian American and Pacific Islanders | DB160085 | 5/19/2016
| Office of Elementary and Secondary Education | Confidential Assistant, Special Projects | DB160088 | 5/19/2016
| Office for Civil Rights | Confidential Assistant (2) | DB160092 DB160093 | 5/19/2016 5/25/2016
| Office of Communications and Outreach | Director of Strategic Media Initiatives | DB160094 | 5/25/2016
Department of Energy | Assistant Secretary for Electricity Delivery and Energy Reliability | Senior Advisor for External Affairs | DE160112 | 5/5/2016
| Office of Public Affairs | Deputy Press Secretary | DE160113 | 5/5/2016
| Office of Energy Policy and Systems Analysis | Senior Analyst for Energy Security | DE160116 | 5/10/2016
| Office of Energy Efficiency and Renewable Energy | Deputy Chief of Staff | DE160117 | 5/13/2016
| Office of the Deputy Secretary | Special Advisor | DE160114 | 5/16/2016
Environmental Protection Agency | Office of Public Engagement and Environmental Education | Deputy Associate Administrator for Public Engagement and Environmental Education | EP160037 | 5/12/2016
Export-Import Bank | Office of the Chairman | Confidential Assistant | EB160003 | 5/2/2016
Federal Energy Regulatory Commission | Office of the Chairman | Confidential Assistant | DR160002 | 5/31/2016
Federal Mediation and Conciliation Service | Office of the Director | Senior Advisor | FM160002 | 5/3/2016
General Services Administration | Office of the Administrator | Deputy Chief of Staff | GS160025 | 5/16/2016
Department of Health and Human Services | Office of the Deputy Secretary | Special Assistant | DH160120 | 5/23/2016
| Office of the Assistant Secretary for Children and Families | Special Assistant | DH160136 | 5/25/2016
| Office of the Assistant Secretary for Public Affairs | Deputy Assistant Secretary | DH160122 | 5/5/2016
| Office of the Secretary | Deputy Scheduler Special Advisor | DH160135 DH160138 | 5/24/2016 5/24/2016
Department of Homeland Security | Office of the Chief of Staff | Director of Trips of Advance (2) | DM160238 DM160242 | 5/3/2016 5/5/2016
| Office of the Secretary | Senior Counselor | DM160250 | 5/25/2016
| Office of the Under Secretary for National Protection and Programs Directorate | Confidential Assistant | DM160243 | 5/5/2016
| Office of the General Counsel | Special Assistant | DM160244 | 5/5/2016
| United States Customs and Border Protection | Special Assistant | DM160254 | 5/24/2016
| United States Citizenship and Immigration Services | Advisor | DM160255 | 5/24/2016
| Office of the Assistant Secretary for Policy | Special Assistant, Office of Policy | DM160248 | 5/25/2016
Department of Housing and Urban Development | Office of the Deputy Secretary | Special Assistant (2) | DU160031 DU160036 | 5/6/2016 5/23/2016
| Office of Housing | Advisor for Single Family Asset Management | DU160333 | 5/10/2016
| Office of the Secretary | Senior Policy Advisor | DU160032 | 5/23/2016
Department of the Interior | Office of Assistant Secretary—Land and Minerals Management | Counselor | DI160067 | 5/16/2016
Department of Justice | Office on Violence Against Women | Confidential Assistant | DJ160091 | 5/6/2016
| Office of Legal Policy | Senior Policy Advisor | DJ160109 | 5/20/2016
| Office of Public Affairs | Deputy Director Press Secretary and Senior Advisor | DJ160103 DJ160111 | 5/23/2016 5/27/2016
| Civil Rights Division | Special Assistant | DJ160110 | 5/24/2016
Department of Labor | Office of Workers Compensation Programs | Chief of Staff | DL160086 | 5/13/2016
| Office of Congressional and Intergovernmental Affairs | Chief of Staff | DL160090 | 5/13/2016
| Employment and Training Administration | Policy Advisor | DL160089 | 5/13/2016
| Office of the Secretary | Special Assistant | DL160092 | 5/16/2016
Office of Management and Budget | Office of Information and Regulatory Affairs | Counselor | BO160037 | 5/5/2016
|  | Confidential Assistant | BO160036 | 5/10/2016
Office of Personnel Management | Office of the Director | Project Manager | PM160027 | 5/25/2016
Office of Science and Technology Policy | Office of Science and Technology Policy | Confidential Assistant | TS160005 | 5/12/2016
Small Business Administration | Office of Communications and Public Liaison | Assistant Administrator for Public Engagement | SB160028 | 5/13/2016
| Office of Government Contracting and Business Development | Special Advisor | SB160029 | 5/13/2016
Department of State | Office of the Chief of Protocol | Protocol Officer | DS160090 | 5/5/2016
| Office of the Coordinator for Counterterrorism | Deputy Coordinator | DS160093 | 5/9/2016
| Office of the Global Women's Issues | Special Assistant | DS160098 | 5/19/2016
| Office of the Special Representative for Global Partnership Initiative | Senior Advisor | DS160100 | 5/23/2016
| Bureau of Public Affairs | Deputy Assistant Secretary | DS160101 | 5/23/2016
| Bureau of Oceans and International Environmental and Scientific Affairs | Staff Assistant | DS160096 | 5/26/2016
| Office of the Under Secretary for Arms Control and International Security Affairs | Staff Assistant | DS160103 | 5/26/2016
| Bureau of Economic and Business Affairs | Special Representative for Commercial and Business Affairs | DS160104 | 5/27/2016
Trade and Development Agency | Office of the Director | Senior Advisor Chief of Staff | TD160002 TD160003 | 5/5/2016 5/24/2016
United States International Trade Commission | Office of Commissioner Schmidtlein | Confidential Assistant | TC160004 | 5/3/2016

The following Schedule C appointing authorities were revoked during May 2016.

Agency name | Organization name | Position title | Request No. | Date vacated
Department of Agriculture | Natural Resources Conservation Service | Special Assistant to the Chief for Public and Private Partnerships | DA150142 | 05/08/2016
| Agricultural Marketing Service | Chief or Staff | DA120029 | 05/15/2016
| Office of the Secretary | Special Assistant | DA160031 | 05/15/2016
| Office of Under Secretary For Natural Resources and Environment | Chief of Staff | DA150145 | 05/15/2016
| Office of the Assistant Secretary for Economic Development | Director of Public Affairs | DC140162 | 05/14/2016
| Office of the General Counsel | Counselor to the General Counsel | DC150071 | 05/14/2016
| Office of the Under Secretary | Special Assistant | DC150130 | 05/14/2016
| Advocacy Center | Policy Assistant | DC140123 | 05/15/2016
Department of Education | Office of the Secretary | Special Assistant for College Access | DB090068 | 05/03/2016
Department of Health and Human Services | Office of Intergovernmental and External Affairs | Regional Director, Boston, Massachusetts, Region I | DH150106 | 05/09/2016
| Office of the Assistant Secretary for Legislation | Special Assistant for Oversight | DH150048 | 05/13/2016
| Office of the Secretary | Policy Advisor | DH160039 | 05/14/2016
|  | Senior Advisor to the Secretary | DH150175 | 05/14/2016
| Office of the Assistant Secretary for Public Affairs | Director of Strategic Planning | DH150124 | 05/20/2016
| Office of Refugee Resettlement/Office of the Director | Special Advisor | DH150020 | 05/28/2016
|  | Chief of Staff | DH150073 | 05/31/2016
| Office of the Deputy Secretary | Confidential Assistant | DH150150 | 05/28/2016
Department of Homeland Security | Federal Emergency Management Agency | Press Secretary | DM150018 | 05/04/2016
| Office of the Under Secretary For National Protection and Programs Directorate | Senior Advisor | DM140122 | 05/08/2016
| Office of the General Counsel | Special Assistant to the General Counsel and Attorney Advisor | DM150188 | 05/14/2016
| Office of the Assistant Secretary for Policy | Special Assistant | DM150056 | 05/28/2016
| Office of the Executive Secretariat | Director of Trips and Advance | DM150171 | 05/28/2016
Department of Housing and Urban Development | Office of the Deputy Secretary | Special Assistant | DU150067 | 05/14/2016
| Office of the General Counsel | Chief of Staff/Senior Counsel | DU150061 | 05/28/2016
Department of Justice | Office of Public Affairs | Media Affairs Coordinator | DJ160011 | 05/11/2016
|  | Deputy Director | DJ140023 | 05/13/2016
|  | Press Secretary and Senior Advisor | DJ160003 | 05/28/2016
| Office on Violence Against Women | Confidential Assistant | DJ160007 | 05/14/2016
| Office of Legal Policy | Senior Counsel | DJ140119 | 05/14/2016
| Office of the Deputy Attorney General | Senior Counsel | DJ130034 | 05/28/2016
Department of State | Office of the Chief of Protocol | Protocol Officer | DS150041 | 05/14/2016
| Bureau of Public Affairs | Senior Advisor | DS140126 | 05/28/2016
| Office of the Global Women's Issues | Staff Assistant | DS150064 | 05/28/2016
Office of Management and Budget | Office of E-Government and Information Technology | Confidential Assistant | BO150020 | 05/28/2016
Office of Personnel Management | Office of Congressional Relations | Intergovernmental Affairs Associate | PM150005 | 05/13/2016
Office of the Secretary of Defense | Office of the Secretary of Defense | Advance Officer | DD160047 | 05/14/2016
| Washington Headquarters Services | Defense Fellow | DD140102 | 05/14/2016
Small Business Administration | Office of Communications and Public Liaison | Senior Speechwriter | SB140012 | 05/14/2016
|  | Press Secretary | SB140024 | 05/28/2016
Trade and Development Agency | Office of the Director | Chief of Staff | TD130004 | 05/14/2016

Authority: 5 U.S.C. 3301 and 3302; E.O. 10577, 3 CFR, 1954-1958 Comp., p. 218.

U.S. Office of Personnel Management.
Beth F. Cobert,
Acting Director.

[FR Doc. 2016-18945 Filed 8-9-16; 8:45 am]

BILLING CODE 6325-39-P